DEPARTMENT OF HEALTH AND HUMAN SERVICES

National Institutes of Health

National Cancer Institute; Amended Notice of Meeting

Notice is hereby given of a change in the meeting of the National Cancer Institute Clinical Trials and Translational Research Advisory Committee, July 10, 2013, 09:00 a.m. to July 10, 2013, 04:00 p.m., National Institutes of Health, 31 Center Drive, Building 31, C Wing, 6th Floor, Conference Room 10, Bethesda, MD, 20892 which was published in the Federal Register on April 24, 2013, 78FR24225.

The notice is being amended to change the meeting format and time. The meeting will be held as a virtual meeting on July 10, 2013, 10:00 a.m. to 12:00 p.m. The webinar meeting may be viewed at http://videocast.nih.gov/. Please note that the meeting is open to the public and you may attend the virtual meeting in person. The meeting will be broadcast from the National Institutes of Health, 31 Center Drive, Building 31, C Wing, 6th Floor, Conference Room 10, Bethesda, MD 20892.

Dated: June 4, 2013.
Melanie J. Gray,
Program Analyst, Office of Federal Advisory Committee Policy.

[FR Doc. 2013-13518 Filed 6-6-13; 8:45 am]

BILLING CODE 4140-01-P